DEPARTMENT OF JUSTICE

Notice of Lodging of Partial Consent Decree Under the Comprehensive Environmental Response, Compensation, and Liability Act

Under 42 U.S.C. 9622(d)(2) and 28 CFR 50.7, notice is hereby given that on August 30, 2007, a proposed Consent Decree in United States and California Department of Toxic Substances Control v. Teledyne Technologies Inc., Civil Action No. CV 07-05674 ODW(FFMx), was lodged with the United States District Court for the Central District of California.

The Consent Decree resolves claims brought by the United States, on behalf of the United States Environmental Protection Agency (“EPA”), and the California Department of Toxic Substances Control (“DTSC”) under sections 106 and 107 of the Comprehensive Environmental Response, Compensation, and Liability Act (“CERCLA”), 42 U.S.C. 9606 and 9607, and section 7003 of the Resource Conservation and Recovery Act, as amended (“RCRA”), 42 U.S.C. 6973, for the performance of response actions, and for the reimbursement of response costs incurred and to be incurred by EPA and DTSC, in connection with the release and threatened release of hazardous substances at the Puente Valley Operable Unit of the San Gabriel Valley Area 4 Superfund Site (“Site”) in Los Angeles County, California.

Pursuant to the Consent Decree, the defendant has agreed to pay $535,000 to the United States and $4,000 to DTSC to resolve defendant's liability for past costs, future costs, and work associated with the remedial action required for the Site set forth in EPA's 1998 Interim Record of Decision.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Teledyne Technologies Inc., D.J. Ref. 90-11-2-354/25. Commenters may request an opportunity for a public meeting in the affected area, in accordance with section 7003(d) of RCRA, 42 U.S.C. 6973(d).

The Consent Decree may be examined at the Office of the United States Attorney, 300 North Los Angeles Street, Los Angeles, California 90012, and the Region IX Office of the Environmental Protection Agency, 75 Hawthorne Street, San Francisco, CA 94105. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury or, if by e-mail or fax, forward a check in that amount to the Consent Decree Library at the stated address.

Henry S. Friedman,
Assistant Section Chief, Environment and Natural Resources Division.

[FR Doc. 07-4487 Filed 9-12-07; 8:45 am]

BILLING CODE 4410-15-M